DEPARTMENT OF TRANSPORTATION

Surface Transportation Board

[STB Finance Docket No. 33851]

Texas Pacifico Transportation, Ltd.—Acquisition and Operation Exemption—South Orient Railroad Company, Ltd.

Texas Pacifico Transportation, Ltd. (Pacifico), a noncarrier State of Texas limited partnership, has filed a verified notice of exemption under 49 CFR 1150.31 to acquire from the South Orient Railroad Company, Ltd. (SORC) and operate approximately 381.9 miles of rail line in Brewster, Coleman, Crane, Crockett, Irion, Pecos, Presidio, Reagan, Runnels, Tom Green, and Upton Counties, TX. Grupo Mexico, S.A. de C.V., a Mexican Sociedad Anomina de Capital Variable, and the ultimate parent of Pacifico, has entered into a conditional agreement with SORC, whereby Pacifico proposes to acquire the following: (1) SORC's permanent, exclusive easement to conduct rail freight transportation; (2) SORC's lease of the rail line extending between milepost 1029.1 on the International Bridge, near Presidio, and milepost 956.7, at Paisano Junction, and between milepost 945.3, at Alpine Junction, and milepost 0 + 330 feet, near San Angelo Junction on the east, and Lampasas Subdivision milepost 373 + 4362 feet, near San Angelo Junction on the west; and (3) the assignment of SORC's trackage rights over a line of the Union Pacific Railroad Company extending between milepost 956.7, at Paisano Junction, and milepost 945.3 at Alpine Junction.

The transaction is scheduled to be consummated on or after February 25, 2000.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33851, must be filed with the Surface Transportation Board, Office of the Secretary, Case Control Unit, 1925 K Street, NW, Washington, DC 20423-0001. In addition, a copy of each pleading must be served on Fritz R. Kahn, Esq., 1100 New York Avenue, N.W., Suite 750 West, Washington, DC 20036.

Board decisions and notices are available on our website at “WWW.STB.DOT.GOV.”

Decided: February 24, 2000.
By the Board, David M. Konschnik, Director, Office of Proceedings.
Vernon A. Williams,
Secretary.

[FR Doc. 00-4923 Filed 3-2-00; 8:45 am]

BILLING CODE 4915-00-P